DEPARTMENT OF LABOR

Employment and Training Administration

[TA-W-82,275]

Delphi Automotive Systems, LLC, Products and Service Solutions Division, Including On-Site Leased Workers From Bartech Workforce Management, Kokomo, Indiana; Amended Certification Regarding Eligibility To Apply for Worker Adjustment Assistance

In accordance with Section 223 of the Trade Act of 1974, as amended (“Act”), 19 U.S.C. 2273, the Department of Labor issued a Certification of Eligibility to Apply for Worker Adjustment Assistance on January 28, 2013, applicable to workers of Delphi Automotive Systems, LLC, Product and Service Solutions Division, Original Equipment Service Unit, including on-site leased workers from Bartech Workforce Management, Kokomo, Indiana. The Department's notice of determination was published in the Federal Register on February 22, 2013 (Volume 78 FR Pages 12361-12363).

At the request of a petitioner, the Department reviewed the certification for workers of the subject firm. The Department has determined that total and partial separations of workers of Delphi Automotive Systems, LLC, Product and Service Solutions Division, including on-site leased workers from Bartech Workforce Management, Kokomo, Indiana are attributable to the shift of services that were the basis of the certification, and that the certification should not be limited to the Original Equipment Service Unit.

Based on these findings, the Department is amending this certification to include all workers of Delphi Automotive Systems, LLC, Product and Service Solutions Division, including on-site leased workers from Bartech Workforce Management, Kokomo, Indiana.

The amended notice applicable to TA-W-82,275 is hereby issued as follows:

“All workers of Delphi Automotive Systems, LLC, Product and Service Solutions Division, including on-site leased workers from Bartech Workforce Management, Kokomo, Indiana, who became totally or partially separated from employment on or after December 18, 2011 through January 28, 2015, and all workers in the group threatened with total or partial separation from employment on the date of certification through January 28, 2015, are eligible to apply for adjustment assistance under Chapter 2 of Title II of the Trade Act of 1974, as amended.”

Signed in Washington, DC this 5th day of July, 2013.
Michael W. Jaffe,
Certifying Officer, Office of Trade Adjustment Assistance.

[FR Doc. 2013-19183 Filed 8-7-13; 8:45 am]

BILLING CODE 4510-FN-P